DEPARTMENT OF THE TREASURY

Submission for OMB Review; Comment Request

October 23, 2012.

The Department of the Treasury will submit the following information collection request to the Office of Management and Budget (OMB) for review and clearance in accordance with the Paperwork Reduction Act of 1995, Public Law 104-13, on or after the date of publication of this notice.

DATES: Comments should be received on or before November 26, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-NEW.

Type of Review: New collection.

Title: IRS Applicant Contact Information.

Form: 14145.

Abstract: Form 14145, IRS Applicant Contact Information, is used by the IRS Recruitment Office to collect contact information from individuals who may be interested in working for the IRS now, or at any time in the future (potential applicants).

Affected Public: Individuals or Households.

Estimated Total Burden Hours: 66,085.

Dawn D. Wolfgang,
Treasury PRA Clearance Officer.

[FR Doc. 2012-26346 Filed 10-25-12; 8:45 am]

BILLING CODE 4830-01-P